ENVIRONMENTAL PROTECTION AGENCY

[FRL-7934-6]

New Hampshire Marine Sanitation Device Standard; Receipt of Petition

Notice is hereby given that a petition has been received from the State of New Hampshire requesting a determination of the Regional Administrator, U.S. Environmental Protection Agency, pursuant to Section 312(f)(3) of Public Law 92-500 as amended by Public Law 95-217 and Public Law 100-4, that adequate facilities for the safe and sanitary removal and treatment of sewage from all vessels are reasonably available for the coastal waters of New Hampshire. The area covered under this petition is:

Waterbody/general area | Latitude | Longitude
Open Ocean—southern | 42°51′26.81241″ | -70°44′50.43790″
Open Ocean—south of Isles of Shoals | 42°54′54.69793″ | -70°37′48.0360″
Open Ocean—east of Isles of Shoals | 42°57′24.92153″ | -70°32′6.08357″
Open Ocean—northern | 43°0′40.06352″ | -70°39′39.85119″
Open Ocean—center | 42°57′13.00278″ | -70°41′42.94551″
Hampton Falls River | 42°54′39.99647″ | -70°51′49.17592″
Great Bay—Squamscott River | 42°58′55.12418″ | -70°56′45.02511″
Great Bay—Lamprey River | 43°4′53.81971″ | -70°56′4.65330″
Little Bay—Oyster River | 43°7′51.91065″ | -70°55′4.70649″
Cocheco River | 43°11′42.30454″ | -70°52′21.96791″
Salmon Falls River | 43°13′36.97946″ | -70°48′40.68515″

The State of New Hampshire has certified that there are six pumpout facilities located on the New Hampshire coastline to service vessels within the proposed NDA. A list of the facilities, phone numbers, locations, and hours of operation is appended at the end of this petition. There are five shore-based facilities, four of these facilities discharge directly to the town sewer, and one facility discharges into a 3,000 gallon tight tank. The area is also serviced by a pumpout boat which discharges into the town sewer. In addition, there are six restroom facilities available at marinas and boat launches, and another five restroom facilities available to the boating public, that are not associated with marinas.

The State of New Hampshire used three different methods to estimate the total vessel population in the proposed NDA, and used the highest total estimate of 4,593 in their calculations to determine the number of pumpout facilities needed to adequately serve the boating public. The transient vessel population is estimated to be 1,689 at any point in time during the boating season, which is included in the total figure. Of the estimated total of 4,593 vessels using this area at any given time, approximately 962 are of a size that may have sewage holding tanks and need pumpout services. The State has determined that the six pumpout facilities currently in service in the proposed NDA are sufficient to meet the potential demand and prevent the discharge of vessel sewage into coastal waters.

The coastline and coastal waters within the proposed NDA contain a variety of rich natural habitats and support a wide diversity of species, providing a range of recreational and commercial activities. There are 16 public beaches, 12 public boat ramps, three historic sites, four science and nature centers, and the Great Bay National Wildlife Refuge. Great Bay, along with New Hampshire's other, smaller estuaries, is part of the National Estuary Program, having been designated an “estuary of national significance” by EPA. The New Hampshire coastal area is also part of the larger ecosystem of the Gulf of Maine, which is the subject of an international ecosystem management program involving the United States and Canada. Both recreational and commercial shell fishermen use the area for the harvest of soft shell clams, oysters, blue mussels, surf clams, razor clams, and mahogany quahogs. In addition, recreational fishing is popular and the species found in the area are smelt, small cod, flounder, haddock, pollock, and striped bass.

Comments and reviews regarding this request for action may be filed on or before August 22, 2005. Such communications, or requests for information or a copy of the applicant's petition, should be addressed to Ann Rodney, U.S. Environmental Protection Agency—New England Region, One Congress Street, Suite 1100, COP, Boston, MA 02114-2023. Telephone: (617) 918-1538.

Dated: June 28, 2005.
Robert W. Varney,
Regional Administrator.

Locations of Marinas With Pumpout Stations
Marina name | Town | Waterbody | Phone number & VHF# | Contact | Operating hours
George's Marina | Dover | Cocheco River | (603) 742-9089 | George Maglaras | 8:30 a.m.-5:00 p.m. (weekdays); 8:30 a.m.-6:00 p.m. (Saturday); 9:00 a.m.-4:00 p.m. (Sunday)
Little Bay Boating Club | Dover | Little Bay | (603) 749-9282; VHF: 9, 16 | Ed Rosholt | Call marina.
Great Bay Marine | Newington | Little Bay | (603) 436-5299; VHF: 9, 68 | Ellen Saas/ Tom Brown | 24 hours (May through October).
Wentworth by the Sea Marina | New Castle | Little Harbor | (603) 433-5050; VHF: 9, 68, 71 | Pat Kelley | 8:00 a.m.-8:00 p.m. (weekdays); 7:00 a.m.-8:00 p.m. (weekends)
Hampton River Marina | Hampton | Hampton Harbor | (603) 929-1422; VHF: 10, 16 | Len Russell | Call marina.
DES Mobile Pumpout Boat | Portsmouth | All coastal | (603) 436-0915; VHF: 9 | Steve Root/ Ken Anderson | Call for an appointment.

[FR Doc. 05-13342 Filed 7-7-05; 8:45 am]

BILLING CODE 6560-50-P